DEPARTMENT OF THE INTERIOR

Bureau of Land Management

[LLIDB0100L14300000.ES0000 24 1A.0; 4500007763; IDI-36028]

Notice of Realty Action: Recreation and Public Purposes Act Classification, Lease and Conveyance of Public Land, Idaho

AGENCY: Bureau of Land Management, Interior.

ACTION: Notice of realty action.

SUMMARY: The City of Caldwell filed an application to purchase a 29.57-acre tract of public land under the Recreation and Public Purposes (R&PP) Act, as amended, to be used as a public park. The Bureau of Land Management (BLM) has examined the land and found it suitable to be classified for lease and/or conveyance under the provisions of the R&PP Act, as amended.

DATES: Interested parties may submit written comments regarding this proposed classification and lease or sale of this public land until February 26, 2010.

ADDRESSES: Mail written comments to Michael O'Donnell, Acting Four Rivers Field Manager, Bureau of Land Management, Boise District Office, 3948 Development Avenue, Boise, Idaho 83705.

FOR FURTHER INFORMATION CONTACT: Effie Schultsmeier, Four Rivers Realty Specialist, at the above address, via e-mail at effie_schultsmeier@blm.gov, or phone (208) 384-3357.

SUPPLEMENTARY INFORMATION: The BLM has examined and found suitable to be classified for lease and subsequent conveyance under the provisions of the R&PP Act, as amended (43 U.S.C. 869 et seq.), the following public land described below.

Boise Meridian

T. 3 N., R. 3 W.,

Sec. 15, lots 2 and 3.

The area described contains 29.57 acres, more or less, in Canyon County.

In accordance with the R&PP Act, the City of Caldwell filed an application to purchase the above-described property to develop as a public park. Additional detailed information pertaining to this application, plan of development, and site plans are in case file IDI 36028, located in the BLM Four Rivers Field Office at the address above. The land is not needed for any Federal purpose. Lease and subsequent sale of this land is consistent with the BLM Cascade Resource Management Plan dated July 1, 1988, as amended, and would be in the public interest. The City of Caldwell has not applied for more than 6,400 acres for recreation uses in a year, the limit set in 43 CFR 2741.7(a)(3), and has submitted a statement in compliance with the regulations at 43 CFR 2741.4(b). Any lease and subsequent sale will be subject to the provisions of the R&PP Act and applicable regulations of the Secretary of the Interior. Any lease or patent of this land will also contain the following reservations to the United States:

1. Provisions of the R&PP Act, including, but not limited to, the terms required by 43 CFR 2741.9.

2. A right-of-way thereon for ditches and canals constructed by the authority of the United States, Act of August 30, 1890 (43 U.S.C. 945); and

3. All mineral deposits in the land so patented, and to it, or persons authorized by it, the right to prospect for, mine, and remove such deposits from the same under applicable law and regulations to be established by the Secretary of the Interior.

Any lease or sale will also be subject to valid existing rights; will contain any terms or conditions required by law or regulation, including, but not limited to, any terms or conditions required by 43 CFR 2741.9; and will contain an appropriate indemnification clause protecting the United States from claims arising out of the lessee's or patentee's use, occupancy, or operations on the leased or patented lands. It will also contain any other terms or conditions deemed necessary or appropriate by the authorized officer. As of January 12, 2010, the above-described land is segregated from appropriation under the public land laws, including the United States mining laws, except for lease and sale under the R&PP Act.

Public Comments: Interested parties may submit comments involving the suitability of the land for a public park. Comments on the classification are restricted to whether the land is physically suited for the proposal, whether the use will maximize future uses of the land, whether the use is consistent with local planning and zoning, or if the use is consistent with State and Federal programs. Interested parties may also submit comments regarding the specific use proposed in the application and plan of development, whether the BLM followed proper administrative procedures in reaching its decision, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so.

Any adverse comments on the proposed classification, lease and sale will be reviewed by the BLM Idaho State Director, who may sustain, vacate, or modify this realty action and classification and issue a final determination. In the absence of any objections, the classification of the land described in this notice will become effective on March 15, 2010. The lands will not be available for lease and conveyance until after the classification becomes effective.

Michael O'Donnell,
Acting Four Rivers Field Manager.

[FR Doc. 2010-310 Filed 1-11-10; 8:45 am]

BILLING CODE 4310-GG-P